DEPARTMENT OF HEALTH AND HUMAN SERVICES

Administration on Aging

Agency Information Collection Activities; Proposed Collection; Comment Request; State Annual Long-Term Care Ombudsman Report and Instructions for Older Americans Act Title VII

AGENCY: Administration on Aging, HHS.

ACTION: Notice

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to State Annual Long-Term Care Ombudsman Report and instructions for Older Americans Act Title VII.

DATES: Submit written or electronic comments on the collection of information by February 21, 2006.

ADDRESSES: Submit electronic comments on the collection of information to: sue.wheaton@aoa.gov.

Submit written comments on the collection of information to: Administration on Aging, Washington, DC 20201. Attention: Sue Wheaton

FOR FURTHER INFORMATION CONTACT: Sue Wheaton, by telephone: (202) 357-3587 or by e-mail: sue.wheaton@aoa.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Under section 712(c), section 712(h)(1) and section 712(h)(B) of the Older Americans Act, as amended, states are required to provide information on ombudsmen activities to AoA, which AoA is then required to present to Congress. The reporting system, the National Ombudsman Reporting System (NORS), was developed in response to these directives and other needs pertaining to the Long Term Care Ombudsman Program and approved by the Office of Management and Budget for use for the first time in FY 1995-96; it was extended a second time with slight modifications for use in FY 1997-2001 and extended for the third time with no change for use from FY 2002-2006. This current (fourth) request is to extend, with modifications, use of the existing State Annual Long-Term Care Ombudsman Report (and Instructions) from Older Americans Act Title VII grantees. The details of these proposed changes are contained on the AoA Web site at: http://www.aoa.gov/prof/aoaprog/elder_rights/LTCombudsman/NORS/nors_form_instructions.asp. AoA estimates the burden of this collection of information as follows: Approximately one and one-half hour per respondent with 52 State Agencies on Aging responding annually.

Dated: December 19, 2005.
Josefina G. Carbonell,
Assistant Secretary for Aging.

[FR Doc. 05-24356 Filed 12-21-05; 8:45 am]

BILLING CODE 4154-01-P